DEPARTMENT OF LABOR

Agency Information Collection Activities; Submission for OMB Review; Comment Request; Job Corps Evidence Building Portfolio

ACTION: Notice of availability; request for comments.

SUMMARY: The Department of Labor (DOL) is submitting this Chief Evaluation Office (OS)-sponsored information collection request (ICR) to the Office of Management and Budget (OMB) for review and approval in accordance with the Paperwork Reduction Act of 1995 (PRA). Public comments on the ICR are invited.

DATES: The OMB will consider all written comments that agency receives on or before March 14, 2022.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Nora Hernandez by telephone at 202-693-8633 or by email at DOL_PRA_PUBLIC@dol.gov.

SUPPLEMENTARY INFORMATION: The Chief Evaluation Office (CEO) of the U.S. DOL seeks approval to collect information for the implementation, outcome, and impact feasibility studies of two Job Corps demonstration pilots. The Job Scholars pilot has 30 separate grantees. The Idaho Job Corps pilot has one grantee, which operates four locations. These studies, funded as part of the broader Job Corps Evidence-Building Portfolio Program, aim to understand who the pilots enroll, what services they provide, how these services are implemented, and how the pilots compare with traditional Job Corps centers. The evaluation will also assess outcomes of participants in the demonstration pilots, as well as identify any best practices. The project also includes impact feasibility assessments of each of the pilots to assess the potential for conducting an impact evaluation of the pilot's effectiveness or similar future pilots. For additional substantive information about this ICR, see the related notice published in the Federal Register on January 8, 2021 (86 FR 1528).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OS.

Title of Collection: Job Corps Evidence Building Portfolio.

OMB Control Number: 1290-0NEW.

Affected Public: Individuals or Households.

Total Estimated Number of Respondents: 430.

Total Estimated Number of Responses: 430.

Total Estimated Annual Time Burden: 631 hours.

Total Estimated Annual Other Costs Burden: $0.

Authority: 44 U.S.C. 3507(a)(1)(D).

Nora Hernandez,
Department Clearance Officer.

[FR Doc. 2022-02765 Filed 2-9-22; 8:45 am]

BILLING CODE 4510-HX-P